NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice. The full submission may be found at: http://www.reginfo.gov/public/do/PRAMain.

DATES: To be sure your comments regarding this information collection are fully considered, NSF needs to receive them by July 11, 2019.

FOR FURTHER INFORMATION CONTACT: Office of Information and Regulatory Affairs of OMB, Attention: Desk Officer for National Science Foundation, 725 17th Street NW Room 10235, Washington, DC 20503, and Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission may be obtained by calling 703-292-7556.

SUPPLEMENTARY INFORMATION: NSF may not conduct or sponsor a collection of information unless the collection of information displays a currently valid OMB control number and the agency informs potential persons who are to respond to the collection of information that such persons are not required to respond to the collection of information unless it displays a currently valid OMB control number.

Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to the points of contact in the FOR FURTHER INFORMATION CONTACT section.

Title of Collection: Mathematical Sciences Postdoctoral Research Fellowship Application Data.

OMB Number: 3145-NEW.

Overview of this Information Collection: The Division of Mathematical Sciences within the Directorate of Mathematical and Physical Sciences of the National Science Foundation will use the Mathematical Sciences Postdoctoral Research Fellowship Application Forms mentioned in the solicitation. Instructions on how to complete the application forms are provided at the program web page. All scientists submitting proposals to the solicitation will be asked to complete an electronic version of the Application Forms. The data collected on the forms does not duplicate that collected elsewhere in the same manner in the proposal. The information consists of PI's current institution and position, (expected) doctoral degree date and institution, proposed fellowship institution and mentoring scientist, reference letter writers, and Mathematics Subject Classification codes.

Use of the Information: The data collected will be used to greatly reduce NSF staff workload in the merit review process.

Burden on the Public: The Directorate estimates that an average of 30 minutes is expended for each proposal submitted. An estimated 250 proposals will be submitted and 125 public burden hours annually.

Expected Respondents: Individuals.

Estimated Number of Responses: 250.

Estimated Number of Respondents: 250.

Estimated Total Annual Burden on Respondents: 125 hours.

Frequency of Responses: Annually.

Dated: June 5, 2019.
Suzanne H. Plimpton,
Reports Clearance Officer, National Science Foundation.

[FR Doc. 2019-12179 Filed 6-10-19; 8:45 am]

BILLING CODE 7555-01-P